DEPARTMENT OF JUSTICE

Antitrust Division

Notice Pursuant to the National Cooperative Research and Production Act of 1993—The ATM Forum

Notice is hereby given that, on January 15, 1999, pursuant to section 6(a) of the National Cooperative Research and Production Act of 1993, 15 U.S.C. 4301 et seq. (“the Act”), The ATM Forum has filed written notifications simultaneously with the Attorney General and the Federal Trade Commission disclosing changes in its membership status. The notifications were filed for the purpose of extending the Act's provisions limiting the recovery of antitrust plaintiffs to actual damages under specified circumstances. Specifically, Novanet Semiconductor, Raanana, Israel; CopperCom, Inc., Santa Clara, CA; and Qwest Communications, Inc., Arlington, VA have been added as parties to this venture. The following members of The ATM Forum have changed their names: ATM Systems to AMP-MA/COM, Inc., Harrisburg, PA; Rockwell Semiconductor Systems, Inc. to Conexant Systems, Inc., Newport Beach, CA; GPT Ltd. to Marconi Communications, Poole Dorset, United Kingdom; MCI Communications, Inc. to MCI WorldCom, Inc., Richardson, TX; Northern Telecom Limited to Nortel Networks, Nashville, TN; Stentor Resource Centre, Inc. to Stentor Canadian Network Management, Inc., Ottawa, Ontario, Canada; and General Signal Networks to Inrange Technologies Corporation, Mount Laurel, NJ. Furukawa Electric Technologies, Inc., Santa Clara, CA; Telogy Networks, Incorporated, Germantown, MD; and Telstra Corporation Ltd., Clayton, Australia downgraded from principal to auditing members. Societe Europeenne Des Satellites S.A., Betzdorf, Luxemborg has upgraded from an auditing to a principal member. Also o.tel.o Communications GmbH & Co., Koln, Germany; and TTK Consulting, Petaling Jaya, Malaysia have been dropped as parties to this venture.

No other changes have been made in either the membership or planned activity of the group research project. Membership in this group research project remains open, and The ATM Forum intends to file additional written notification disclosing all changes in membership.

On April 19, 1993, The ATM Forum filed its original notification pursuant to section 6(a) of the Act. The Department of Justice published a notice in the Federal Register pursuant to section 6(b) of the Act on June 2, 1993 (58 FR 31415).

The last notification was filed with the Department on July 21, 1998. A notice was published in the Federal Register pursuant to section 6(b) of the Act on December 31, 1998 (63 FR 72329).

Constance K. Robinson,
Director of Operations, Antitrust Division.

[FR Doc. 00-20303 Filed 8-10-00; 8:45 am]

BILLING CODE 4410-11-M